FEDERAL COMMUNICATIONS COMMISSION

47 CFR Parts 90

[WT Docket No. 98-182; RM-9222; PR Docket No. 92-235; FCC 00-235]

1998 Biennial Regulatory Review—Private Land Mobile Radio Services

AGENCY: Federal Communications Commission.

ACTION: Proposed rule.

SUMMARY: The Commission has adopted a Further Notice of Proposed Rule Making, (FNPRM) which seeks comment on whether certain rule changes would be in the public interest. Specifically, the Commission seeks comment on whether it should modify the eligibility criteria to operate in the Public Safety Pool for parks and schools; the eligibility criteria for highway maintenance frequencies; and the power limits for certain dockside channels.

DATES: Interested parties may file comments on or before November 14, 2000 and reply comments on or before December 14, 2000.

FOR FURTHER INFORMATION CONTACT: Guy Benson (202) 418-2946 <gbenson@fcc.gov> or Ghassen Khalek (202) 418-2771 <gkhalek@fcc.gov>, Public Safety and Private Wireless Division, Wireless Telecommunications Bureau, or Les Smith, AMD-PERM, Office of Managing Director at (202) 418-0217.

SUPPLEMENTARY INFORMATION: This is a summary of the Commission's FNPRM in the Report and Order and FNPRM, FCC 00-235 in WT Docket No. 98-182 and PR Docket No. 92-235, adopted on June 28, 2000 and released on July 12, 2000. The full text of this FNPRM is available for inspection and copying during normal business hours in the FCC Reference Center, Room CY-A257, 445 12th Street, SW., Washington, DC. The complete text may be purchased from the Commission's copy contractor, International Transcription Service, Inc., 1231 20th Street, NW., Washington, DC. 20037. The full text may also be downloaded at: www.fcc.gov. Alternative formats are available to persons with disabilities by contacting Martha Contee at (202) 418-0260 or TTY (202) 418-2555.

Summary of the Proposed Rule

1. The Commission initiated the instant proceeding in conjunction with the Commission's 1998 biennial regulatory review under Section 11 of the Communications Act of 1934, 47 U.S.C. 161. Section 11 requires us to review all our regulations applicable to providers of telecommunications service and determine whether any rule is no longer in the public interest as a result of meaningful economic competition between providers of telecommunications service, and whether such regulations should be deleted or modified. As part of the biennial review of regulations required under section 11, however, the Commission has reviewed all of its regulations relating to administering wireless services, not just those pertaining to providers of a telecommunications service, to determine which regulations can be streamlined or eliminated. The Commission concluded in the FNPRM that it was in the public interest to continue to streamline the part 90 Rules and to reduce regulatory requirements on licensees.

2. First, the Commission proposes to eliminate the restriction found in 47 CFR 90.20(a)(1)(i) that excludes school districts and authorities and park districts and authorities from eligibility in the Public Safety Pool. The Commission believes that there are sufficient frequencies available in the Public Safety Pool to accommodate school and park districts. Because school districts and authorities will be eligible to hold authorizations in the Public Safety Pool with this change, the Commission also proposes to eliminate their eligibility for the Industrial/Business Pool.

3. Second, the Commission proposes to eliminate the restriction found in 47 CFR 90.20(43), reserving certain public safety frequencies for non-State highway maintenance use. The proposal allows any public safety user to share these frequencies. The intended result is more efficient use of the spectrum.

4. Finally, the Commission seeks comment on the American Automobile Association's (AAA) proposal that the Commission assign eight of the thirty dockside frequencies to the Emergency Road Service. AAA also proposes to act as the sole frequency coordinator on those channels and asks that the 2-watt power limitations for these frequencies be eliminated. The Commission seeks comment on all of these proposals.

Initial Regulatory Flexibility Analysis

5. As required by section 603 of the Regulatory Flexibility Act, 5 U.S.C. 603, the Commission has prepared an Initial Regulatory Flexibility Analysis (IRFA) of the expected impact on small entities of the policies and rules proposed in the FNPRM. Written public comments are requested on the IRFA. Comments must be identified as responses to the IRFA and must be filed by the deadlines for comments on this FNPRM.

Reason for, and Objectives of, the FNPRM

6. The purpose of this item is to determine whether it is in the public interest, convenience, and necessity to amend our rules to eliminate certain restrictions on the use of frequencies in the Public Safety Pool. These proposals include: (1) Deleting the restrictions in 47 CFR 90.20 that exclude school districts and authorities and park districts and authorities from Public Safety Pool eligibility; (2) eliminate the restrictions in 47 CFR 90.20(43) that limit eligibility for certain Public Safety Pool frequencies to non-State highway maintenance systems; and (3) seeking comment on AAA's proposal that we assign eight of twenty-two dockside frequencies for Emergency Road Service, designate AAA as the sole frequency coordinator for those frequencies, and eliminate the current 2-watt power restriction for those frequencies.

7. These proposed rules and actions will give park districts and authorities, school districts and authorities, and other public safety users access to spectrum needed for important communications functions, and will result in more efficient use of the spectrum.

Legal Basis

8. Authority for the proposed rules included in this issuance of this FNPRM is contained in sections 4(i), 303(r), and 332(a)(2) of the Communications Act of 1934, as amended, 47 U.S.C. 154(i), 303(r), and 332(a)(2).

Description and Estimate of the Number of Small Entities to Which the Proposed Rules Will Apply

9. The RFA directs agencies to provide a description of, and, where feasible, an estimate of the number of small entities that may be affected by the proposed rules, if adopted. The RFA defines the term “small entity” as having the same meaning as the terms “small business,” “small organization,” and “small business concern” under section 3 of the Small Business Act. A small business concern is one which: (1) Is independently owned and operated; (2) is not dominant in its field of operation; and (3) satisfies any additional criteria established by the SBA.

Description of Projected Reporting, Recordkeeping and Other Compliance Requirements

10. Reporting, recordkeeping, and compliance requirements under these proposed rules are nominal. No new reporting, recordkeeping, or other compliance requirements would be imposed on applicants or licensees as a result of the actions proposed in this rule making proceeding.

Steps Taken To Minimize Significant Economic Impact on Small Entities, and Significant Alternatives Considered

11. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule or any part thereof for small entities.

12. Regarding our proposal to delete the exclusion of park districts and authorities and school districts and authorities from the Public Safety Pool channels, see paras. 43-46, supra, there should be no significant adverse impact on small entities. An alternative to this proposal would be to do nothing, which would be unsatisfactory because it would leave the parks without any possibility of operating radio stations for the transmission of communications essential to their official activities.

13. Finally, we seek comment on how the changes proposed in the FNPRM will effect small entities.

Federal Rules That May Duplicate, Overlap, or Conflict With the Proposed Rules

14. None.

Report to Congress

The Commission will send a copy of the FNPRM including this FRFA, in a report to be sent to Congress pursuant to the Small Business Regulatory Enforcement Fairness Act of 1996. In addition, the Commission will send a copy of the FNPRM, including FRFA, to the Chief Counsel for Advocacy of the Small Business Administration. A copy of the FNPRM and FRFA (or summaries thereof) will also be published in the Federal Register.

List of Subjects in 47 CFR Part 90

Communications equipment, Radio

Federal Communications Comission.
Magalie Roman Salas,
Secretary.

Proposed Rule Changes

For the reasons discussed in the preamble, the Federal Communications Commission proposes to amend 47 CFR part 90 as follows:

PART 90—PRIVATE LAND MOBILE RADIO SERVICES

1. The authority citation for Part 90 continues to read as follows:

Authority: Sections 4(i), 11, 303(g), 303(r) and 332(c)(7) of the Communications Act of 1934, as amended, 47 U.S.C. 154(i), 161, 303(g), 303(r), 332(c)(7).

2. Section 90.20 is amended by removing and reserving paragraph (d)(43) and revising paragraph (a)(1)(i) and the entries for 156.165 MHz, 156.1725 MHz, 156.180 MHz, 156.1875 MHz, 156.195 MHz, 156.2025 MHz, 156.225 MHz, 156.2325 MHz, 156.240 MHz, 158.985 MHz, 158.9925 MHz, 159.000 MHz, 159.0075 MHz, 159.015 MHz, 159.0225 MHz, 159.045 MHz, 159.0525 MHz, 159.060 MHz, 159.0675 MHz, 159.075 MHz, 159.0825 MHz, 159.105 MHz, 159.1125 MHz, 159.120 MHz, 159.1275 MHz, 159.135 MHz, 159.1425 MHz, 159.165 MHz, and 159.1725 MHz of paragraph (c)(3) to read as follows:

§ 90.20 Public Safety Pool.

(a) * * *

(a) * * *

(i) A district and an authority;

* * * * *

(c) * * *

(3) * * *

Public Safety Pool Frequency Table
Frequency or band | Class of stations(s) | Limitations | Coordinator
Megahertz:
* * * * * * *
156.165 | Base or Mobile | 42 | PH
156.1725 | ......do | 27, 42 | PH
156.180 | ......do | 42 | PH
156.1875 | ......do | 27, 42 | PH
156.195 | ......do |  | PH
156.2025 | ......do | 27 | PH
* * * * * * *
156.225 | ......do |  | PH
156.2325 | ......do | 27 | PH
156.240 | ......do | 79 | PH
* * * * * * *
158.985 | [Mobile] |  | PH
158.9925 | ......do | 27 | PH
159.000 | ......do |  | PH
159.0075 | ......do | 27 | PH
159.015 | ......do |  | PH
159.0225 | ......do | 27 | PH
* * * * * * *
159.045 | ......do |  | PH
159.0525 | ......do | 27 | PH
159.060 | ......do |  | PH
159.0675 | ......do | 27 | PH
159.075 | ......do |  | PH
156.0825 | ......do | 27 | PH
* * * * * * *
159.105 | [Base or Mobile] |  | PH
159.1125 | ......do | 27 | PH
159.120 | ......do |  | PH
159.1275 | ......do | 27 | PH
159.135 | ......do |  | PH
159.1425 | ......do | 27 | PH
* * * * * * *
159.165 | ......do |  | PH
159.1725 | ......do | 27 | PH

* * * * *

(d) * * *

(43) [Reserved]

* * * * *

§ 90.242 [Amended]

3. Section 90.242 is amended by removing paragraph (a)(1) and redesignating paragraphs (a)(2) through (a)(7) as (a)(1) though (a)(6).

[FR Doc. 00-23587 Filed 9-14-00; 8:45 am]

BILLING CODE 6712-01-P